FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 5, 2016.

A. Federal Reserve Bank of Kansas City (Dennis Denney, Assistant Vice President) 1 Memorial Drive, Kansas City, Missouri 64198-0001:

1. Kara L. Marshall Kelley, Omaha, Nebraska; as trustee of various trusts, and Kristen L. Marshall Maser, Grand Island, Nebraska, as trustee of various trusts, William W. Marshall III 2006 Irrevocable Life Insurance Trust; the 2016 Sharon Marshall Irrevocable HBC Trust; and HBC Investments, LLC; all of Grand Island, Nebraska; and for approval as a member of the Marshall Family Group: Sharon L. Marshall, Matthew Maser, the William W. Marshall III Revocable Trust, the Sharon L. Marshall Irrevocable Dynasty Trust, the Kristen L. Marshall Maser Revocable Trust, the Katherine Marshall Maser Irrevocable Trust, the Carolyn Marshall Maser Irrevocable Trust, the William Marshall Maser Irrevocable Trust, all of Grand Island, Nebraska; and Thomas O. Kelley, the Kara L. Marshall-Kelley Revocable Trust, the Kathleen Grace Kelley Irrevocable Trust, the Thomas O. Kelley Irrevocable Trust, the John Marshall Kelley Irrevocable Trust, all of Omaha, Nebraska; to acquire shares of and Hometown Banc Corp, Grand Island, Nebraska, and thereby control Five Points Bank, Grand Island, Nebraska, and Five Points Bank of Hastings, Hastings, Nebraska.

B. Federal Reserve Bank of Dallas (Robert L. Triplett III, Senior Vice President) 2200 North Pearl Street, Dallas, Texas 75201-2272:

1. Mickey Wiley Carter, Sr., as co-trustee of Carter Holdings Trust, both of Omaha, Texas; to join the Holton Family Group and to retain control of the voting shares of WSB Bancshares, Inc., Wellington, Texas, and indirectly retain shares of Wellington State Bank, Wellington, Texas.

Board of Governors of the Federal Reserve System, September 15, 2016.
Michele Taylor Fennell,
Assistant Secretary of the Board.

[FR Doc. 2016-22636 Filed 9-20-16; 8:45 am]

BILLING CODE 6210-01-P